DEPARTMENT OF HEALTH AND HUMAN SERVICES

Centers for Medicare & Medicaid Services

42 CFR Parts 405, 412, 413, 431, 482, 485, 495, and 512

[CMS-1808-CN2]

RIN 0938-AV34

Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes; Correction

AGENCY: Centers for Medicare & Medicaid Services (CMS), Department of Health and Human Services HHS.

ACTION: Final rule; correction

SUMMARY: This document corrects technical and typographical errors in the final rule that appeared in the August 28, 2024 Federal Register titled “Medicare and Medicaid Programs and the Children's Health Insurance Program; Hospital Inpatient Prospective Payment Systems for Acute Care Hospitals and the Long-Term Care Hospital Prospective Payment System and Policy Changes and Fiscal Year 2025 Rates; Quality Programs Requirements; and Other Policy Changes” (referred to hereafter as the “FY 2025 IPPS/LTCH PPS final rule”).

DATES: The corrections in this document are effective October 1, 2024.

FOR FURTHER INFORMATION CONTACT:

Donald Thompson and Michele Hudson, DAC@cms.hhs.gov, (410) 786-4487, IPPS Payment Rate Issues.

Lily Yuan, NewTech@cms.hhs.gov, New Technology Add-On Payments Issues.

Benjamin Cohen, benjamin.cohen@cms.hhs.gov, Provider Reimbursement Review Board.

Mady Hue, marilu.hue@cms.hhs.gov, and Andrea Hazeley, andrea.hazeley@cms.hhs.gov, MS-DRG Classifications Issues.

Jennifer Tate, jennifer.tate@cms.hhs.gov, Hospital-Acquired Condition Reduction Program—Administration Issues.

Julia Venanzi, julia.venanzi@cms.hhs.gov, Hospital Inpatient Quality Reporting Program and Hospital Value-Based Purchasing Program—Administration Issues.

Jennifer Tate, jennifer.tate@cms.hhs.gov, PPS-Exempt Cancer Hospital Quality Reporting—Administration Issues.

Ariel Cress, ariel.cress@cms.hhs.gov or Lorraine Wickiser, lorraine.wickiser@cms.hhs.gov, Long-Term Care Hospital Quality Reporting Program—Administration Issues.

Jessica Warren, jessica.warren@cms.hhs.gov and Elizabeth Holland, elizabeth.holland@cms.hhs.gov, Medicare Promoting Interoperability Program.

SUPPLEMENTARY INFORMATION:

I. Background

In FR Doc. 2024-07567 of August 28, 2024 (89 FR 68986), there were a number of typographical and technical errors that are identified and corrected in this correcting document. The corrections in this correcting document are applicable to discharges occurring on or after October 1, 2024, as if they had been included in the document that appeared in the August 28, 2024 Federal Register.

II. Summary of Errors

A. Summary of Error in the Dates Section

On page 68986, we are correcting technical errors in our discussion of the regulatory provisions that are effective November 1, 2024.

B. Summary of Errors in the Preamble

On pages 69060 and 69095, in our discussion of the Change to Specific Medicare Severity Diagnosis-Related Group (MS-DRG) Classifications, we are correcting several inadvertent typographical errors.

Under our methodologies as finalized in the FY 2025 IPPS/LTCH PPS final rule, we exclude hospitals that have subsequently converted to rural emergency hospitals (REHs) from certain data and calculations used in the IPPS ratesetting. Specifically, we stated that we exclude REHs, including hospitals that subsequently became REHs after the period from which the data were taken for purposes of developing the MS-DRG relative weights for FY 2025 (89 FR 69109) and from the calculation of the standardized amount (89 FR 69942). In addition, we stated that any hospital that is designated as a REH by 7 days prior to the publication of the preliminary wage index public use file (PUF) is excluded from the calculation of the wage index. We inadvertently treated a current IPPS hospital as a hospital that had converted to REH status, thereby erroneously excluding its data from the MS-DRG relative weight calculation and the wage index (CMS Certification Number (CCN) 260163). Therefore, we restored the applicable data for this hospital for these and other ratesetting calculations, as discussed further in section II.D. of this correcting document.

We are correcting an error in the version 42 MS-DRG assignment for some cases in the historical claims data in the FY 2023 MedPAR files used in the ratesetting for the FY 2025 IPPS/LTCH PPS final rule, which resulted in inadvertent errors in the MS-DRG relative weights. (We note this error did not change the associated average length-of-stay (LOS) for the impacted DRGs.) Additionally, the version 42 MS-DRG assignment and relative weights are used when determining total payments for purposes of all of the budget neutrality factors and the final outlier threshold. Therefore, the corrections to the MS-DRG assignment under the version 42 GROUPER for some cases in the historical claims data in the FY 2023 MedPAR files (along with the restoration of the data for CCN 260163 as discussed previously) and the conforming recalculation of the relative weights directly affected the calculation of total payments and required the recalculation of all the budget neutrality factors and the final outlier threshold.

On page 69109, we are correcting the number of Medicare discharges from IPPS providers in the FY 2023 MedPAR file used in calculating the relative weights for FY 2025 due to the correction of the number of hospitals with REH status.

On page 69113, we are correcting the normalization adjustment factor used in calculating the relative weights for FY 2025 due to the correction of the number of hospitals with REH status, the error in the version 42 MS-DRG assignment for some cases in the historical claims data, and the conforming changes to the relative weights.

On page 69268, we are correcting the total number of hospitals that were removed from the FY 2025 IPPS wage index due to conversion to REH status and making a corresponding correction to the number of hospitals' wage data used to calculate the FY 2025 wage index.

On page 69277, we are correcting the occupational mix adjusted national average hourly wage due to the inadvertent omission of one hospital's wage data (CCN 260163). (We note, there was no change to the unadjusted national average hourly wage value rounded to 2-digits.)

On page 69282 in the discussion of the FY 2025 reclassification application requirements and approvals, due to reclassification errors described in section II.D. of this correcting document, we are correcting the number of hospitals approved for reclassification in FY 2025, the total number of hospitals in reclassification status, and the number of hospitals reclassified back to their geographic urban area.

On page 69282, in the discussion of the FY 2025 reclassification application requirements and approvals, we are correcting a typographical error in the date applications for FY 2026 reclassifications are due to the Medicare Geographic Classification Review Board (MGCRB).

On page 69291, we inadvertently omitted a hospital from the list of all hospitals subject to our reclassification assignment and reassignment policy for core-based statistical areas (CBSAs) reconfigured due to the migration to Connecticut planning regions and the CBSA assigned or reassigned for FY 2025 under this policy. We are correcting this error by adding a hospital, CCN 220015 to Table Y “HOSPITALS SUBJECT TO RECLASSIFICATION ASSIGNMENT POLICY”. The assignment of the hospital's MGCRB reclassification is discussed further in section II.D. of this correcting document.

On page 69308, because we restored the wage data for a IPPS hospital that we inadvertently treated as a REH and recalculated the wage index (as discussed earlier in this section) and made corrections to the MGCRB reclassification status of three hospitals (as discussed in section II.D. of this correcting document), we recalculated budget neutrality factors, including the rural floor budget neutrality factor, which is the only budget neutrality factor applied to the FY 2025 wage indexes (as discussed in section II.D. of this correcting document), made conforming changes to the out-migration adjustment discussed in section II.E. of this correcting document (as discussed with regard to Table 4A in section II.E. of this correcting document) and made a conforming change to the 25th percentile wage index value across all hospitals.

On pages 69313 and 69315, we are correcting typographical errors in the number of hospitals that may participate in the Rural Community Hospital Demonstration Program at the start of FY 2025.

On page 69369, we inadvertently omitted a reference to population health professional shortage areas (HPSAs) when summarizing the prioritization methodology for the distribution any remaining slots after awarding up to 1.00 FTE to each qualifying hospital under section 4122 of the Consolidated Appropriations Act, 2023.

On page 69400, in our discussion of the Hospital Readmissions Reduction Program, we are correcting a typographical error.

On pages 69455, 69458, 69463, 69476, 69481, 69489, 69529, 69533, 69534, 69538, 69540, 69544, 69545, 69549, 69572, 69573, and 69575 in our discussion of the Hospital Inpatient Quality Reporting Program, we are correcting several typographical and technical errors.

On page 69503, in our discussion of the Modifications to the Hospital Consumer Assessment of Healthcare Providers and Systems (HCAHPS) Survey measure, we are correcting a typographical error.

On page 69512, in our discussion of the Advancing Patient Safety and Outcomes Across the Hospital Quality Programs—Request for Comment, we are correcting a technical error.

On pages 69577 and 69578, in our discussion of the PPS-Exempt Cancer Hospital Quality Reporting (PCHQR) Program, we are correcting typographical errors.

On pages 69590, in our discussion of the Long-term Care Quality Reporting Program (LTCH QRP), we are correcting a typographical error.

On pages 69605 through 69613, 69621, and 69622 in our discussion of the Medicare Promoting Interoperability Program, we are correcting several typographical and technical errors.

On page 69880, in our discussion of the Provider Reimbursement Review Board, we are correcting an inadvertent grammatical error.

On pages 69901 and 66902, in our discussion of the information collection requirements for the LTCH QRP, we are correcting typographical errors.

C. Summary of Errors in the Regulations Text

On page 69914, in the regulations text for the Medicare Promoting Interoperability Program at § 495.24(f)(1)(i)(C), we are correcting a technical error.

D. Summary of Errors in the Addendum

We made inadvertent errors in the Medicare Geographic Classification Review Board (MGCRB) reclassification status of 3 hospitals in the FY 2025 IPPS/LTCH PPS final rule. Specifically, we are correcting the MGCRB reclassification for CCNs 170040 and 220015. The correct reclassified CBSA for CCN 170040 is 41440, and the correct reclassified CBSA for CCN 220015 is 49340. We are also adding an MGCRB reclassification for CCN 520034 to CBSA 43100. The final FY 2025 IPPS wage index with reclassification is used when determining total payments for purposes of all budget neutrality factors (except for the MS-DRG reclassification and recalibration budget neutrality factor before the cap, MS-DRG reclassification and recalibration budget neutrality factor with the cap and the wage index budget neutrality adjustment factor) and the final outlier threshold.

In addition, as discussed in section II.B. of this correcting document, we inadvertently treated a current IPPS hospital as a hospital that had converted to REH status, thereby erroneously excluding its data from the IPPS ratesetting calculations for FY 2025, including the standardized amount calculations. After restoring the hospital's data (CCN 260163) and correcting the version 42 MS-DRG assignment for some cases in the historical claims data (as also discussed in section II.B. of this correcting document, we recalculated the MS-DRG relative weights, all wage indexes (and geographic adjustment factors (GAFs)), all budget neutrality factors, the fixed-loss cost threshold, and the national operating standardized amounts and capital Federal rate. The MGCRB reclassification changes described previously were included in these recalculations as applicable.

Due to the errors described previously, we made updates to the calculation of Factor 3 of the uncompensated care payment methodology to reflect the updated information for the IPPS hospital that had inadvertently been treated as a hospital that had converted to an REH. This hospital is projected to be DSH-eligible for purposes of interim uncompensated care payments during FY 2025. We recalculated the total uncompensated care amount for all DSH-eligible hospitals to reflect these updates. In addition, because the Factor 3 for each hospital reflects that hospital's uncompensated care amount relative to the uncompensated care amount for all subsection (d) hospitals that receive a DSH payment for the fiscal year, we also recalculated Factor 3 for all DSH-eligible hospitals. The hospital-specific Factor 3 determines the total amount of the uncompensated care payment a hospital is eligible to receive for a fiscal year. This hospital-specific payment amount is then used to calculate the amount of the interim uncompensated care payments a hospital receives per discharge. Given the very narrowly targeted update to the information used in the calculation of Factor 3, the change to the previously calculated Factor 3 for the majority of hospitals is of limited magnitude. We incorporated the revised uncompensated care payment amounts for all DSH-eligible hospitals into our recalculation of the FY 2025 fixed-loss threshold and related budget neutrality figures.

On page 69960, we made conforming changes to the operating national average case-weighted cost-to-charge ratios (CCRs) for March 2023 and March 2024, the 1-year national operating CCR adjustment factor, the capital national average case-weighted CCRs for March 2023 and March 2024, and the 1-year national capital CCR adjustment factor to reflect the inclusion of applicable data for the IPPS hospital that had inadvertently been treated as a hospital that converted to an REH.

Due to the correction of the combination of errors that are discussed previously, we made changes to the following:

• On page 69948, the table titled “Summary of FY 2025 Budget Neutrality Factors”.

• On page 69955, estimated capital outlier payments and estimated total capital Federal payments.

• On page 69961, the outlier fixed-loss cost threshold, total operating Federal payments, total operating outlier payments, and the outlier adjustment to the capital Federal rate.

• On page 69963, the table titled “Changes from FY 2024 Standardized Amounts to the FY 2025 Standardized Amounts”.

In determining the capital budget neutrality adjustment factor for changes in DRG classifications and weights and the GAF, under our 2-step calculation of the GAF budget neutrality factor, we inadvertently assigned one hospital the incorrect FY 2024 GAF without incorporating the lowest quartile hospital wage index adjustment and the 5 percent cap on wage index decreases. We recalculated the capital outlier adjustment factor, the GAF/DRG budget neutrality factor, and the Quartile/Cap budget neutrality factor to reflect the correction of one hospital's FY 2024 GAF. We note that these recalculations also reflect the correction of the error in the REH status, the correction of the error in the version 42 MS DRG assignment for some cases in the historical claims data, the recalculation of the relative weights, and the correction of the MGCRB reclassification status for certain hospitals described previously. As we noted in the final rule, the capital Federal rate is calculated using unrounded budget neutrality and outlier adjustment factors. The unrounded Quartile/Cap budget neutrality factor and the unrounded outlier adjustment to the capital Federal rate were revised because of these errors. However, after rounding these factors to 4 decimal places as displayed in the final rule, the rounded factors were unchanged from the final rule.

On pages 69966 through 69971, in the discussion of the determination of the Federal hospital inpatient capital related prospective payment rate update, due to the correction of these errors as discussed previously, we made conforming corrections to the GAF/DRG budget neutrality factor, the capital Federal rate, and related figures. As a result of these changes, we also made conforming corrections in the table showing the comparison of factors and adjustments for the FY 2024 capital Federal rate and FY 2025 capital Federal rate.

On page 69987, we are making conforming changes to the applicable HCO threshold for site neutral payment rate cases under the LTCH PPS for FY 2025 since it is calculated as the sum of the site neutral payment rate for the case and the IPPS fixed-loss amount.

On page 69990, we are making conforming corrections to the national adjusted operating standardized amounts and capital standard Federal payment rate (which also include the rates payable to hospitals located in Puerto Rico) in Tables 1A, 1B, 1C, and 1D as a result of the conforming corrections to certain budget neutrality factors, as previously described.

E. Summary of Errors in the Appendices

On pages 69994, 69996 through 70001, 70003 through 70004, 70006 through 70008, and 70030 through 70032, in the regulatory impact analyses, we have made conforming corrections to the factors, values, and tables, and the accompanying discussion of the changes to operating and capital IPPS payments for FY 2025 as a result of the technical errors that lead to changes in our calculation of certain IPPS budget neutrality factors, MS-DRG relative weights, wage indexes, and other figures as described in sections II.B. and D. of this correcting document. These conforming corrections include changes to the following:

• On pages 69998 through 70000, the table titled “Table I—Impact Analysis of Changes to the IPPS for Operating Costs for FY 2025”.

• On pages 70003 and 70004, the table titled “Table II—Impact Analysis of Changes for FY 2025 Acute Care Hospital Operating Prospective Payment System (Payments per Discharge)”.

• On pages 70007 and 70008, the table titled “Table III—Provider Deciles by Beneficiary Characteristics”.

• On pages 70031 through 70032, the table titled “Table III—Comparison of Total Payments per Case”.

On page 70011, in our discussion of the effects of the changes to new technology add-on payments, we are correcting inadvertent typographical errors made in the numbers of traditional pathway technologies and new technology add-on payments provided for those technologies in FY 2025.

On pages 70012 through 70015, we are correcting the discussion of the “Medicare DSH Uncompensated Care Payments and Supplemental Payment for Indian Health Service Hospitals and Tribal Hospitals and Hospitals Located in Puerto Rico” for purposes of the Regulatory Impact Analysis in Appendix A of the FY 2025 IPPS/LTCH PPS final rule, including the table titled “Modeled Uncompensated Care Payments* and Supplemental Payments for Estimated FY 2025 DSHs by Hospital Type,” in light of the corrections discussed in section II.D. of this correcting document.

On page 70022, in our discussion of the effects of the changes to the Hospital VBP Program, we are correcting technical errors the entries for “By MCR Percent”, “By DSH Percent”, and By Teaching Status” in Table I.8-01.

F. Summary of Errors in and Corrections to Files and Tables Posted on the CMS Website

We are correcting the errors in the following IPPS tables that are listed on page 69989 of the FY 2025 IPPS/LTCH PPS final rule and are available on the internet on the CMS website at https://www.cms.gov/Medicare/Medicare-Feefor-ServicePayment/AcuteInpatientPPS/index.html. The tables that are available on the internet have been updated to reflect the revisions discussed in this final rule correction.

Table 2.—Final Case-Mix Index and Wage Index Table by CCN—FY 2025 Final Rule. As discussed in the previous section, we inadvertently treated a current IPPS hospital as a hospital that had converted to REH status, thereby erroneously excluding its data from the wage index (CCN 260163). Therefore, we restored this provider to Table 2, which includes all relevant values for this provider for each column in the table. (We note, CCN 260163 has a MGCRB reclassification to CBSA 14.)

Because of the inadvertent errors in the MGCRB reclassification status of 3 hospitals (as discussed in section II.D. of this correcting document) we are making the following corrections in Table 2: We are correcting the values in the columns titled “Wage Index Payment CBSA” and “MGCRB Reclass” for CCNs 170040, 220015 and 520034. As mentioned earlier, the correct reclassified CBSA for CCN 170040 is 41440, and the correct reclassified CBSA for CCN 220015 is 49340. The “Y” value in the column titled “MGCRB Reclass to Home” for both CCNs has also been removed, as the correct MGCRB reclassification CBSA is not the hospitals' geographic urban CBSA. We are also adding an MGCRB reclassification for CCN 520034 by inserting CBSA 43100 to the columns “Wage Index Payment CBSA” and “MGCRB Reclass”.

Due to the inadvertent omission of one hospital's wage data (CCN 260163), we are correcting the occupational mix adjusted national average hourly wage (as discussed in section II.B. of this correcting document), and we recalculated all of the budget neutrality adjustments (as discussed in section II.D. of this correcting document) including the recalculation of the rural floor budget neutrality factor, which is the only budget neutrality factor applied to the FY 2025 wage indexes. As discussed in section II.D. of this correcting document we are making corrections to the MGCRB reclassification status of three hospitals. Because all these changes affect the calculation of various area wage indexes used to determine certain budget neutrality factors and hospitals' final wage index value for FY 2025, we are also making conforming changes to the other impacted wage indexes, including the imputed floor, outmigration adjustment (as discussed later in this section) and the 25th percentile wage index value across all hospitals (as discussed in section II.D. of this correcting document). Therefore, based on all these changes described previously, we are correcting the values in the columns titled “FY 2025 Wage Index Prior to Quartile and Cap”, “FY 2025 Wage Index With Quartile”, “FY 2025 Wage Index With Quartile and Cap”, and “Out-Migration Adjustment”. We also updated footnote number 6 to reflect the conforming change to the 25th percentile wage index value across all hospitals.

Table 3.—Final Wage Index Table by CBSA—FY 2025 Final Rule. As discussed previously, we inadvertently treated a current IPPS hospital as a hospital that had converted to REH status, thereby erroneously excluding its data from the wage index (CCN 260163). Therefore, we restored CCN 260163 to the wage data and recalculated the FY 2025 wage index for CBSA 26 as well as the reclassified wage index for CBSA 14 (see discussion earlier in this section regarding the MGCRB reclassification for CCN 260163). We also revised the values in the columns titled “FY 2025 Average Hourly Wage” and “3-Year Average Hourly Wage (2023, 2024, 2025)” for CBSA 26.

Because of the inadvertent errors in the MGCRB reclassification status of CCNs 170040, 220015 and 520034 (as discussed earlier in this section), we recalculated the wage index for CBSAs 41440, 49340, 43100, and the rural wage index for Wisconsin (CBSA 52).

Due to the inadvertent omission of one hospital's wage data (CCN 260163), we are correcting the occupational mix adjusted national average hourly wage (as discussed in section II.B. of this correcting document), and we recalculated all of the budget neutrality adjustments (as discussed in section II.D. of this correcting document), including the recalculation of the rural floor budget neutrality factor, which is the only budget neutrality factor applied to the FY 2025 wage indexes. As discussed earlier in this section we made corrections to the MGCRB reclassification status of three hospitals. Because these changes described earlier (restoring provider 2060163 to the wage data, the inadvertent errors in the MGCRB reclassification status of CCNs 170040, 220015 and 520034, the recalculation of the rural floor budget neutrality factor) affect the area pre and post reclassified wage indexes, we are also making conforming changes to the other impacted wage indexes, including the imputed floor. We also are making corresponding changes to the GAFs for any CBSAs with a wage index that changed. Based on all these changes described previously, we are correcting the values and flags in the columns titled “Wage Index”, “GAF”, “Reclassified Wage Index”, “Reclassified GAF”, “State Rural Floor”, “Eligible for Rural Floor Wage Index”, “Pre-Frontier and/or Pre-Rural Floor Wage Index”, “Reclassified Wage Index Eligible for Frontier Wage Index”, “Reclassified Wage Index Eligible for Rural Floor Wage Index”, and “Reclassified Wage Index Pre-Frontier and/or Pre-Rural Floor”.

Table 4A.—Final List of Counties Eligible for the Out-Migration Adjustment under Section 1886(d)(13) of the Act—FY 2025 Final Rule. Due to the inadvertent omission of one hospital's wage data (CCN 260163), we are correcting the occupational mix adjusted national average hourly wage (as discussed in section II.B. of this correcting document), and we recalculated all of the budget neutrality adjustments (as discussed in section II.D. of this correcting document) including the recalculation of the rural floor budget neutrality factor, which is the only budget neutrality factor applied to the FY 2025 wage indexes. As also discussed in section II.D. of this correcting document and earlier in this section, we made corrections to the MGCRB reclassification status of three hospitals. Because all these changes affect various area wage indexes (including the post reclassified wage indexes), we are also making conforming changes to the other impacted wage indexes, including the imputed floor. As discussed in the FY 2012 IPPS final rule (76 FR 51601 through 51602), we calculate the out-migration adjustment using the post-reclassified wage indexes. Because the wage indexes are one of the inputs used to determine the out-migration adjustment, the out-migration adjustments for some counties/hospitals changed. Therefore, we are making corresponding changes to certain out-migration adjustments listed in Table 4A. Specifically, we are correcting the values in the column titled “FY 2025 Out-Migration Adjustment”.

Table 5.—Final List of Medicare Severity Diagnosis-Related Groups (MS-DRGs), Relative Weighting Factors, and Geometric and Arithmetic Mean Length of Stay—FY 2025 Final Rule. We are correcting this table to reflect the recalculation of the relative weights, geometric average length-of-stay (LOS), and arithmetic mean LOS as a result of the correction of the number of hospitals with REH status and the correction in the version 42 MS-DRG assignment for some cases in the historical claims data (as discussed in section II.B. of this correcting document).

Table 12B.—Final LTCH PPS Wage Index for Rural Areas for Discharges Occurring from October 1, 2024, through September 30, 2025. As discussed in the previous section, we inadvertently excluded a hospital (CCN 260163) from the IPPS wage data used to calculate the FY 2025 LTCH PPS wage index. This resulted in a correction to the wage index value for rural Missouri (CBSA 26) in Table 12B. (We note, there are no LTCHs located in rural Missouri in the data used to develop the FY 2025 LTCH PPS rates in the FY 2025 IPPS/LTCH PPS final. Therefore, this correction to the LTCH PPS wage index value for rural Missouri did not necessitate the recalculation of the FY 2025 LTCH PPS rates.)

Table 18.—Final FY 2025 Medicare DSH Uncompensated Care Payment Factor 3. We further note that we also made updates to the calculation of Factor 3 of the uncompensated care payment methodology to reflect the updated information for the IPPS hospital that had inadvertently been treated as a hospital that had converted to an REH. This hospital is projected to be DSH-eligible for purposes of the interim uncompensated care payments during FY 2025, but its data was erroneously excluded from the Factor 3 calculations for FY 2025. We recalculated the total uncompensated care amount for all DSH-eligible hospitals to reflect this update. In addition, because the Factor 3 calculated for each hospital reflects that hospital's uncompensated care amount relative to the uncompensated care amount for all subsection (d) hospitals that receive a DSH payment for the fiscal year, we also recalculated Factor 3 for all DSH-eligible hospitals. The hospital-specific Factor 3 determines the total amount of the uncompensated care payment a hospital is eligible to receive for the fiscal year. This hospital-specific payment amount is then used to calculate the amount of the interim uncompensated care payments a hospital receives per discharge. Given the very narrowly targeted update to the information used in the calculation of Factor 3, the change to the previously calculated Factor 3 is of limited magnitude for the majority of hospitals.

For the FY 2025 IPPS/LTCH PPS final rule, we published a list of hospitals that we identified to be subsection (d) hospitals and subsection (d) Puerto Rico hospitals projected to be eligible to receive interim uncompensated care payments for FY 2025. We are updating this list and the calculation of Factor 3 of the uncompensated care payment methodology to reflect the updated information for the IPPS hospital that was inadvertently treated as a hospital that had converted to an REH. We are revising Factor 3 for all hospitals to reflect this correction. We are also revising the amount of the total uncompensated care payment calculated for each DSH-eligible hospital. The total uncompensated care payment that a hospital receives is used to calculate the amount of the interim uncompensated care payments the hospital receives per discharge.

III. Waiver of Proposed Rulemaking and Delay in Effective Date

Under 5 U.S.C. 553(b) of the Administrative Procedure Act (APA), the agency is required to publish a notice of the proposed rulemaking in the Federal Register before the provisions of a rule take effect. Similarly, section 1871(b)(1) of the Act requires the Secretary to provide for notice of the proposed rulemaking in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support.

We believe that this final rule correction does not constitute a rule that would be subject to the notice and comment or delayed effective date requirements. This document corrects technical and typographical errors in the preamble, regulations text, addendum, tables, and appendices included or referenced in the FY 2025 IPPS/LTCH PPS final rule but does not make substantive changes to the policies or payment methodologies that were adopted in the final rule. As a result, this final rule correction is intended to ensure that the information in the FY 2025 IPPS/LTCH PPS final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for providers to receive appropriate payments in as timely a manner as possible, and to ensure that the FY 2025 IPPS/LTCH PPS final rule accurately reflects our policies. Furthermore, such procedures would be unnecessary, as we are not altering our payment methodologies or policies, but rather, we are simply implementing correctly the methodologies and policies that we previously proposed, requested comment on, and subsequently finalized. This final rule correction is intended solely to ensure that the FY 2025 IPPS/LTCH PPS final rule accurately reflects these payment methodologies and policies. Therefore, we believe we have good cause to waive the notice and comment and effective date requirements.

IV. Correction of Errors

In FR Doc. 2024-07567 of August 28, 2024 (89 FR 68986), we are making the following corrections:

A. Correction of Errors in the Dates Section

1. On page 68986, first column, DATES section, lines 7 and 8, the phrase “The regulations at §§ 482.42(e) and 485.640(d)” is corrected to read “The regulations at §§ 482.42(e) and (f) and 485.640(d) and (e)”.

B. Corrections of Errors in the Preamble

2. On page 69060, third column, first partial paragraph:

a. Lines 22 through 26, the phrase “MS-DRG 447 `Multiple Level Anterior and Posterior Spinal Fusion Except Cervical with MCC or Custom-Made Anatomically Designed Interbody Fusion Device' ” is corrected to read “MS-DRG 447 `Multiple Level Spinal Fusion Except Cervical with MCC or Custom-Made Anatomically Designed Interbody Fusion Device' ”.

b. Lines 26 through 29, the phrase “MS-DRG 448 `Multiple Level Anterior and Posterior Spinal Fusion Except Cervical without MCC' ” is corrected to read, “MS-DRG 448 `Multiple Level Spinal Fusion Except Cervical without MCC' ”.

3. On page 69095, bottom of page, second column, first partial paragraph, line 7, the date “June 5, 2025” is corrected to read “June 5, 2024”.

4. On page 69109, first column, last paragraph, line 3, the figure “6,916,571” is corrected to read “6,916,748”.

5. On page 69113, third column, first full paragraph, line 17, the figure “1.92336” is corrected to read as “1.92331”.

6. On page 69268, third column, first partial paragraph:

a. Line 14, the figure “4” is corrected to read “3”,

b. Line 20, the figure “19” is corrected to read “18”,

b. Line 25, the figure “3,074” is corrected to read “3,075”.

7. On page 69277, at the bottom of the page, in the untitled table, the figure “$54.97” is corrected to read “$54.96”.

8. On page 69282:

a. Second column, third paragraph:

i. Line 9, the figure “470” is corrected to read “471”,

ii. Line 29, the figure “1,078” is corrected to read “1,079”, and

iii. Line 32, the figure “237” is corrected to read “235”.

b. Third column, second full paragraph, line 3, the phrase “by September 1, 2024.” is corrected to read, “by September 3, 2024 (while applications are due not later than 13 months prior to the start of the fiscal year for which reclassification is sought, usually by September 1, it has been the MGCRB's practice to allow submission up to the first business day in September).”

9. On page 69291, the Table Y “HOSPITALS SUBJECT TO RECLASSIFICATION ASSIGNMENT POLICY” is corrected by adding the following entry after row 8 (CCN 070036) and before row 9 (CCN 220020):

CCN | MGCRB case No. | Approved CBSA | Final rule CBSA
220015 | 25C0368 | 49340 | 49340

10. On page 69308, third column, middle of the page, the untitled table is corrected to read as follows:

FY 2025 25th Percentile Wage Index Value | 0.9009

11. On page 69313, second column, first partial paragraph, line 13, the figure “23” is corrected to read “22”.

12. On page 69315, third column, first full paragraph, line 1, the figure “23” is corrected to read “22”.

13. On page 69369, second column, fourth full paragraph, line 14, the phrase “mental-health-only geographic” is corrected to read “mental-health-only population and geographic”.

14. On page 69400, second column, last partial paragraph, line 9, the phrase “beneficiaries, ERRs, and aggregate” is corrected to read “beneficiaries, excess readmission ratios (ERRs), and aggregate”.

15. On page 69455, third column, third footnote paragraph (footnote 266), lines 4 and 5, the web address “https://www.cdc.gov/hai/data/archive/2021-HAI-progress-report.html#2018” is corrected to read “https://archive.cdc.gov/#/details?url=https://www.cdc.gov/hai/data/archive/2021-HAI-progress-report.html”.

16. On page 69458, second column, second footnote paragraph (footnote 297), lines 4 through 6, the web address “https://qualitynet.gov/inpatient/iqr/proposedmeasures” is corrected to “https://qualitynet.cms.gov/inpatient/iqr/proposedmeasures”.

17. On page 69463, lower half of the page, first column, first footnote paragraph (footnote 304), lines 3 through 5, the web address “https://qualitynet.gov/inpatient/iqr/proposedmeasures” is corrected to “https://qualitynet.cms.gov/inpatient/iqr/proposedmeasures.”

18. On page 69476, first column, third footnote paragraph (footnote 341), lines 4 through 8, the web address https://www.cdc.gov/healthcare-associated-infections/?CDC_AAref_Val=https://www.cdc.gov/hai/prevent/infection%25C2%25ADcontrol%25C2%25AD.assessment%25C2%25ADtools.html is corrected to “https://www.cdc.gov/infection-control/media/pdfs/IPC-Instructions-508.pdf.”

19. On page 69481, first and second columns, footnote paragraph (footnote 366), last line and lines 1 and 2, the web address “https://mmshub.cms.gov/sites/default/files/PSSMTEP-Summary-Report-202306.pdf” is corrected to “https://mmshub.cms.gov/sites/default/files/PSSM-TEP-Summary-Report-202306.pdf.”

20. On page 69489, in the first column; first footnote paragraph (footnote 394), lines 3 through 5, the web address “https://qualitynet.gov/inpatient/iqr/proposedmeasures” is corrected to “https://qualitynet.cms.gov/inpatient/iqr/proposedmeasures.”

21. On page 69503, third column, second full paragraph, lines 15 through 17, the web address, “https://hcahpsonline.org/en/mode-patient-mix-adj/#jan2023publiclyreported” is corrected to read, “https://hcahpsonline.org/en/mode--patient-mix-adj/#jan2023publiclyreported.”

22. On page 69512, second column, first footnote paragraph (footnote 437), lines 1 through 4, “Medicare Hospital Quality Chartbook. National Rates over Time. Available at: https://www.cmshospitalchartbook.com/visualization/national-rates-over-time. Accessed March 12, 2024.” is corrected to read “MedPAC. (2019). Update: MedPAC's evaluation of Medicare's Hospital Readmission Reduction Program. Available at: https://www.medpac.gov/update-medpac-s-evaluation-of-medicare-s-hospital-readmission-reduction-program/.”

23. On page 69529, first column, second footnote paragraph (footnote 531), lines 2 through 4, the footnote “CDC. (2024). National and State Healthcare-associated Infections Progress Report. Available at: https://www.cdc.gov/healthcare-associated-infections/php/data/progress-report.html.” is corrected to read “CDC. (2022). Antibiotic Resistance & Patient Safety Portal: Catheter-Associated Urinary Tract Infections. Available at: https://arpsp.cdc.gov/profile/nhsn/cauti.”.

24. On page 69533, first column, second full paragraph, lines 9 through 17, the sentences “In CAUTI and CLABSI SIRs, risk adjustment is applied at the individual location level, resulting in a count of infection events (SIR numerator) and predicted number of infections (SIR denominator). The NHSN then aggregates location-specific results for all of a facility's locations prior to calculating the SIR.” are corrected to read “The NHSN then aggregates location-specific results for all of a facility's locations prior to calculating the SIR.”

25. On page 69534, first column, second full paragraph, lines 18-21, the sentence “This would also allow more direct comparison with the CAUTI-Onc and CLABSI-Onc measures used in the PCHQR Program.” is corrected to read “The oncology-specific measures would also allow more direct comparison with the CAUTI and CLABSI measures used in the PCHQR Program.”.

26. On page 69538, first column, last paragraph, lines 6 through 12, the sentence “Hospitals must report on the following three eCQMs: (1) Hospital Harm—Severe Hypoglycemia eCQM; (2) Hospital Harm—Severe Hyperglycemia eCQM; and (3) Hospital Harm—Opioid-Related Adverse Events eCQM.” is corrected to read “Hospitals must report on the following three eCQMs: (1) the Safe Use of Opioids—Concurrent Prescribing eCQM; (2) the Cesarean Birth eCQM; and (3) the Severe Obstetric Complications eCQM.”.

27. On page 69540, first column, last paragraph, line 11, the reference “section XXXX” is corrected to read “section X.A.”.

28. On page 69544, third column, last paragraph, lines 6 through 12, the sentence “Hospitals must report the following three eCQMs: (1) Hospital Harm—Severe Hypoglycemia eCQM; (2) Hospital Harm—Severe Hyperglycemia eCQM; and (3) Hospital Harm—Opioid-Related Adverse Events eCQM.” is corrected to read “Hospitals must report the following three eCQMs: (1) the Safe Use of Opioids—Concurrent Prescribing eCQM; (2) the Cesarean Birth eCQM; and (3) the Severe Obstetric Complications eCQM.”.

29. On page 69545, third column, first partial paragraph, line 3, the reference “section XXXX” is corrected to read “section X.A.”.

30. On page 69549, first column, fourth full paragraph, lines 5 through 7, the web address “https://qualitynet.cms.gov/inpatient/iqr/measures” is corrected to read “https://qualitynet.cms.gov/inpatient/measures.”

31. On page 69572, third column, last paragraph, line 25, the table reference “Table IX.C.XXXX” is corrected to read “Table IX.C.10.”.

32. On page 69573, top of the page:

a. First column, first paragraph, line 1, the table reference “Table IX.C.XXXX” is corrected to read “Table IX.C.10.”

b. In the table titled, “TABLE IX.C.X:XXX. NEWLY FINALIZED eCQM REPORTING AND SUBMISSION REQUIREMENTS FOR THE CY 2026 REPORTING PERIOD/FY 2028 PAYMENT DETERMINATION AND SUBSEQUENT YEARS”, line 1, the table number “TABLE IX.C.XXXX” is corrected to read “TABLE IX.C.10.”.

33. On page 69575:

a. Top third of the page, third column, first full paragraph, line 3, the reference “Table IX.C.10.” is corrected to read “Table IX.C.11.”.

b. Middle of the page, in the table titled, “TABLE IX.C.10. SUMMARY OF THE CURRENT AND NEWLY MODIFIED VALIDATION SCORING POLICIES”, line 1, the table number “TABLE IX.C.10” is corrected to read “TABLE IX.C.11.”.

34. On page 69577, third column, last partial paragraph, the parenthetical reference “(86 FR 36341)” is corrected to read “(89 FR 36341)”.

35. On page 69578, first column, first partial paragraph, line 2, the parenthetical reference “(86 FR 36341)” is corrected to read “(89 FR 36341)”.

36. On page 69590, first column, first partial paragraph, line 6, the word “effect” is corrected to read “effective”.

37. On pages 69605 and 69606 remove the undesignated table.

38. On pages 69606 through 69613 correct “TABLE IX.F.-01.: SUMMARY OF OBJECTIVES AND MEASURES FOR THE MEDICARE PROMOTING INTEROPERABILITY PROGRAM FOR THE EHR REPORTING PERIOD IN CY 2025” to read as follows:

BILLING CODE 4120-01-P

BILLING CODE 4120-01-C

39. On page 69621, top of the page, lines 1 and 2, the table title “TABLE IX.F.-05: PREVIOUSLY FINALIZED ECQMS FOR ELIGIBLE HOSPITALS AND CAHS FOR THE CY 2024 THE REPORTING PERIOD” is corrected to read “TABLE IX.F.-05: PREVIOUSLY FINALIZED ECQMS FOR ELIGIBLE HOSPITALS AND CAHS FOR THE CY 2024 REPORTING PERIOD”.

40. On page 69622, third column, last paragraph, line 19, the phrase “CY 206” is corrected to read “CY 2026”.

41. On page 69880, third column, second full paragraph, line 2, the phrase, “supporting our CMS's proposal” is corrected to read “supported CMS's proposal”.

42. On page 69901, lower half of the page, second column, partial paragraph, line 16, the phrase “section . and IX.E.7.b.” is corrected to read “section IX.E.7.b.”.

43. On page 69902, top of the page, in the table title “TABLE XII.B-08: U.S. BUREAU OF LABOR AND STATISTICS' MAY 2021 NATIONAL OCCUPATIONAL EMPLOYMENT AND WAGE ESTIMATES, line 1, the date “MAY 2021” is corrected to read “MAY 2022”.

C. Corrections of Errors in the Addendum

44. On page 69948, the table titled “Summary of FY 2025 Budget Neutrality Factors” is corrected to read:

45. On page 69955, third column, first full paragraph, line 6 through 11, the phrase “(estimated capital outlier payments of $292,195,135 divided by (estimated capital outlier payments of $292,195,135 plus the estimated total capital Federal payment of $6,564,012,091))” is corrected to read: “(estimated capital outlier payments of $292,277,686 divided by (estimated capital outlier payments of $292,277,686 plus the estimated total capital Federal payment of $6,564,098,157))”.

46. On page 69960, third column:

a. First full paragraph:

i. Line 4, the figure “0.24849” is corrected to “0.248486”,

ii. Line 6, the figure “0.252248” is corrected to “0.252261”, and

iii. Line 17, the figure “1.015123” is corrected to “1.015192”.

b. Second full paragraph:

i. Line 5, the figure “0.017716” is corrected to “0.017718”,

ii. Line 7, the figure “0.017666” is corrected to “0.017669”, and

iii. Line 18, the figure “0.997178” is corrected to “0.997234”.

47. On page 69961, second column:

a. First full paragraph:

i. Line 22, the figure “$46,152” is corrected to “$46,147”,

ii. Line 24, the figure “$4,349,520,041” is corrected to “$4,350,072,899”,

iii. Line 25, the figure “$80,269,760,637” is corrected to “$80,279,536,469”,

iv. Line 40, the figure “$46,502” is corrected to “$46,498”, and

v. Line 51, the figure “$46,152” is corrected to “$46,147”.

b. the untitled table, the figure “0.957682” is corrected to “0.957678.

48. On page 69963, the table titled “CHANGES FROM FY 2024 STANDARDIZED AMOUNTS TO THE FY 2025 STANDARDIZED AMOUNTS” is corrected to read as follows:

49. On page 69966, third column, first full paragraph, line 6, the figure “1.33 percent” is corrected to read “1.30 percent”.

50. On page 69969, second column, second partial paragraph, line 17, the figure “0.9887” is corrected to read “0.9884”.

51. On page 69970:

a. First column, first full paragraph, line 8, the mathematical phrase, “(0.9887) is 0.9856 (0.9969 × 0.9887)” is corrected to read “(0.9884) is 0.9854 (0.9969 × 0.9884)”.

b. Second column, second full paragraph, line 2, the figure “0.9856” is corrected to read “0.9854”.

c. Third column:

i. First partial paragraph, line 5, the figure “$510.51” is corrected to read “$510.39”.

ii. Second bulleted paragraph, line 12, the figure “0.9856” is corrected to read “0.9854”.

iii. Last paragraph:

A. Line 13, the figure “1.44” is corrected to read “1.46”.

B. Line 25, the figure “1.33” is corrected to read “1.30”.

52. On page 69971:

a. Top of the page, the table titled “COMPARISON OF FACTORS AND ADJUSTMENTS: FY 2024 CAPITAL FEDERAL RATE AND THE FY 2025 CAPITAL FEDERAL RATE” is corrected to read as follows:

b. Lower three-fourths of the page, first column, second paragraph, last line, the figure “$46,152” is corrected to read “$46,147”.

53. On page 69987, first column, first full paragraph,

a. Line 13, the figure “$46,152” is corrected to read “$46,147”.

b. Last line, the figure “$46,152” is corrected to read “$46,147”.

54. On page 69990:

a. The table titled “TABLE 1A—NATIONAL ADJUSTED OPERATING STANDARDIZED AMOUNTS, LABOR/NONLABOR (67.6 PERCENT LABOR SHARE/32.4 PERCENT NONLABOR SHARE IF WAGE INDEX IS GREATER THAN 11)—FY 2025” is corrected to read as follows:

b. The table titled “TABLE 1B.—NATIONAL ADJUSTED OPERATING STANDARDIZED AMOUNTS, LABOR/NONLABOR (62 PERCENT LABOR SHARE/38 PERCENT NONLABOR SHARE IF WAGE INDEX IS LESS THAN OR EQUAL TO 1)—FY 2025” is corrected to read as follows:

c. The table titled “TABLE 1C.— ADJUSTED OPERATING STANDARDIZED AMOUNTS FOR HOSPITALS IN PUERTO RICO, LABOR/NONLABOR (NATIONAL: 62 PERCENT LABOR SHARE/38 PERCENT NONLABOR SHARE BECAUSE WAGE INDEX IS LESS THAN OR EQUAL TO 1)—FY 2025” is corrected to read as follows:

d. The table titled “TABLE 1D.— CAPITAL STANDARD FEDERAL PAYMENT RATE—FY 2025” is corrected to read as follows:

TABLE 1D.— CAPITAL STANDARD FEDERAL PAYMENT RATE—FY 2025
| Rate
National | $510.39

D. Correction of Errors in the Appendices

55. On page 69994, third column, first full paragraph, line 1, the figure “3,082” is corrected to read “3,083”.

56. On page 69996, third column:

a. First full paragraph, line 7, the figure “3,082” is corrected to read “3,083”,

b. Second full paragraph, line 5, the figure “690” is corrected to read “691”.

c. Third full paragraph, line 11, the figure “1,368” is corrected to read “1,369”.

57. On page 69997:

a. First column, first paragraph, line 4, the figure “1,832” is corrected to read “1,833”.

b. Second column, first paragraph, line 7, the figure “244” is corrected to read “245”.

4. On pages 69998 through 70000, the table titled “Table I.—Impact Analysis of Changes to the IPPS for Operating Costs for FY 2025” is corrected to read as follows:

BILLING CODE 4120-01-P

BILLING CODE 4120-01-C

58. On page 70000, second column, second full paragraph, line 26, the figure “1.000114” is corrected to read “0.999981”.

59. On page 70001:

a. Top of the page, the table titled, “FY 2025 Percentage Change in Area Wage Index Values” is corrected to read as follows:

b. Lower three-fourths of the page, second column:

i. Second full paragraph, line 6, the figure “0.977499” is corrected to read “0.977500”.

ii. Fourth full paragraph, line 5, the figure “0.977499” is corrected to read “0.977500”.

60. On pages 70003 and 70004, the table titled “Table II.—Impact Analysis of Changes for FY 2025 Acute Care Hospital Operating Prospective Payment System (Payments Per Discharge)” is corrected to read as follows:

BILLING CODE 4120-01-P

61. On page 70006, third column, last paragraph:

a. Line 9, the figure “$13,660.95” is corrected to read “$13,661.19”.

b. Line 12, the figure “$21,150.86” is corrected to read “$21,184.97”.

62. On pages 70007 and 70008, the table titled “Table III—Provider Deciles by Beneficiary Characteristics” is corrected to read as follows:

63. On page 70011, top of the page, first column, partial paragraph, lines 2 and 3, the phrase “estimates for the 6 technologies for which we are providing 5 new” is corrected to read “estimates for the 5 technologies for which we are providing 4 new”.

64. On page 70012:

a. Second column, second paragraph, line 1, the number “2399” is corrected to “2400”, and

b. Third column, first paragraph, line 6, the number “23” is corrected to “22”.

65. On pages 70013 and 70014, the table titled “Modeled Uncompensated Care Payments* and Supplemental Payments for Estimated FY 2025 DSHs by Hospital Type” is corrected to read as follows:

BILLING CODE 4120-01-C

66. On page 70014, first column, first paragraph, line 1 the language (beginning with the phrase “The changes in projected FY 2025 UCP and supplemental payments compared to the” and ending with the sentence “Meanwhile, hospitals with less than 25 percent Medicaid utilization and those with Medicaid utilization between 25-50 percent are projected to receive larger than average decreases of 4.44 percent and 4.31 percent, respectively.”) is corrected to read as follows: “The changes in projected FY 2025 UCP and supplemental payments compared to the total of UCP and supplemental payments in FY 2024 are driven by changes in Factor 1 and Factor 2. The Factor 1 has increased from the FY 2024 final rule's Factor 1 of $10.015 billion to this final rule's Factor 1 of $10.457 billion. The Factor 2 has decreased from FY 2024 final rule's Factor 2 of 59.29 percent to this final rule's Factor 2 of 54.29 percent. In addition, we note that there is a slight increase in the number of projected DSH-eligible hospitals to 2,400 at the time of the development for this final rule compared to the 2,384 DSHs in the FY 2024 IPPS/LTCH PPS final rule (88 FR 58640). Based on the changes, the impact analysis found that, across all projected DSH-eligible hospitals, FY 2025 UCP and supplemental payments are estimated at approximately $5.786 billion, or a decrease of approximately 3.91 percent from FY 2024 UCP and supplemental payments (approximately $6.021 billion). While the changes result in a net decrease in the total amount available to be distributed in UCP and supplemental payments, the projected payment amounts vary by hospital type. This redistribution of payments is caused by changes in Factor 3 and the amount of the supplemental payment for DSH-eligible IHS/Tribal hospitals and Puerto Rico hospitals. As seen in the previous table, a percent change of less than negative 3.91 percent indicates that hospitals within the specified category are projected to experience a larger decrease in payments, on average, compared to the universe of projected FY 2025 DSH-eligible hospitals. Conversely, a percentage change greater than negative 3.91 percent indicates that a hospital type is projected to have a smaller decrease compared to the overall average. The variation in the distribution of overall payments by hospital characteristic is largely dependent on a given hospital's uncompensated care costs as reported on the Worksheet S-10 and used in the Factor 3 computation and whether the hospital is eligible to receive the supplemental payment.

Rural hospitals, in general, are projected to experience a smaller decrease in UCP compared to the decrease their urban counterparts are projected to experience. Overall, rural hospitals are projected to receive a 0.68 percent decrease in payments, while urban hospitals are projected to receive a 4.10 percent decrease in payments, which is slightly larger than the overall hospital average.

By bed size, rural hospitals with 0 to 99 beds are projected to receive a smaller than average decrease of 2.06 percent in payments, while those with 100 to 249 beds are projected to receive an increase of 1.11. Additionally, rural hospitals with 250+ beds are projected to receive a 0.56 percent increase in payments. Among urban hospitals, the smallest urban hospitals, those with 0 to 99 beds, are projected to receive a 3.40 percent increase in payments. In contrast, larger urban hospitals with 100-249 beds and urban hospitals with 250+ beds are projected to receive decreases in payments that are larger than the overall hospital average, at 4.83 and 4.29 percent, respectively.

By region, rural hospitals are projected to receive a varied range of payment changes. Rural hospitals in the New England, West North Central, and Middle Atlantic regions are projected to receive larger than average decreases in payments. Rural hospitals in all other regions are projected to receive either increases in payments or smaller than average decreases in payments. Urban hospitals in the West South Central, Mountain, and Pacific regions are projected to either receive either increases in payments or smaller than average decreases in payments, while urban hospitals in all other regions are projected to receive larger than average decreases in payments.

By payment classification, hospitals in urban payment areas overall are expected to receive a 3.74 percent decrease in UCP and supplemental payments. Hospitals, in large urban payment areas are projected to receive a smaller than average decrease in payments of 2.39 percent. In contrast, hospitals in other urban payment areas and hospitals in rural payment areas are projected to receive a larger than average decrease in payments of 5.72 and 4.10 percent, respectively.

Nonteaching hospitals and teaching hospitals with 100+ residents are projected to receive a smaller than average payment decrease of 3.18 percent and 3.49 percent, respectively. Teaching hospitals with fewer than 100 residents are projected to receive larger than average payment decreases of 4.90 percent. Voluntary hospitals are projected to receive larger than average decreases of 4.59 percent, while government-owned hospitals and proprietary hospitals are expected to receive a smaller than average payment decrease of 2.65 percent and 3.62 percent, respectively. Hospitals with less than 25 percent Medicare utilization are projected to receive smaller than average decreases of 3.25 percent. Hospitals with Medicare utilization between 25-50 percent, 50-65 percent, and greater than 65 percent are projected to receive larger than average decreases of 5.51 percent, 8.31 percent, and 7.09 percent, respectively. Hospitals with 50-65 percent Medicaid utilization are projected to receive a smaller than average decreases in payments of 1.96 percent, while those with greater than 65 percent Medicaid utilization are projected to receive a 5.76 percent increase in payments. Meanwhile, hospitals with less than 25 percent Medicaid utilization and those with Medicaid utilization between 25-50 percent are projected to receive larger than average decreases of 4.40 percent and 4.34 percent, respectively.”

67. On pages 70021 through 70022, in the table titled TABLE I.8.-01 IMPACT ANALYSIS OF BASE OPERATING DRG PAYMENT AMOUNTS RESULTING FROM THE FY 2025 HOSPITAL VBP PROGRAM, the table is corrected to read as follows:

BILLING CODE 4120-01-P

68. On page 70030:

a. Second column, first full paragraph, line 4, the figure “0.9856” is corrected to read “0.9854”.

b. Second column, second full paragraph, line 6, the figure “3,082” is corrected to read “3,083”. c. Third column, first full paragraph:

i. Line 9, the figure “0.3” is corrected to read “0.4”.

ii. Line 14, the figure “2.2” is corrected to read “2.1”.

d. Third column, second full paragraph, line 12, the figure “2.8” is corrected to read “2.7”.

69. On pages 70031 through 70032, the table titled “Table III—Comparison of Total Payments per Case” is corrected to read as follows:

E. Corrections of Errors in the Regulations Text

§ 495.24 [Corrected]

70. On page 69914, in the first column, § 495.24(f)(1)(i)(C) is corrected to read: “(C) In 2025 earn a total score of at least 70 points”.

Elizabeth J. Gramling,
Executive Secretary to the Department, Department of Health and Human Services.

[FR Doc. 2024-22501 Filed 9-27-24; 4:15 pm]

BILLING CODE 4120-01-C